ENVIRONMENTAL PROTECTION AGENCY

40 CFR Part 261

[EPA-R06-RCRA-2024; FRL-11997-01-R6]

Hazardous Waste Management System; Identification and Listing of Hazardous Waste

AGENCY: Environmental Protection Agency (EPA).

ACTION: Final rule; amendment.

SUMMARY: The Environmental Protection Agency (EPA) is amending an exclusion for Shell Oil Company, Deer Park, Texas facility to reflect changes in ownership and name.

DATES: This rule is effective June 7, 2024.

FOR FURTHER INFORMATION CONTACT: Eshala Dixon, RCRA Permits & Solid Waste Section (LCR-RP), Land, Chemicals and Redevelopment Division, EPA Region 6, 1201 Elm Street, Suite 500, Dallas, TX 75270, phone number: 214-665-6592; email address: dixon.eshala@epa.gov.

SUPPLEMENTARY INFORMATION: In this document EPA is amending appendix IX to part 261 to reflect a change in the ownership and name of a particular facility. This action documents the transfer of ownership and name change by updating appendix IX to incorporate the change in owner's name for the Shell Oil Company, Deer Park, TX facility for the exclusion from hazardous waste regulations for the Multi-source (F039) landfill leachate. The exclusion or “delisting” was granted to Shell Oil Company on August 23, 2005 (see 70 FR 49187). The EPA has been notified that the transfer of ownership of the Shell Oil Company, Deer Park, TX facility to Deer Park Refining Limited Partnership (DPRLP) occurred on March 20, 2022. DPLRP has certified that it plans to comply with all the terms and conditions set forth in the delisting and will not change the characteristics of the wastes subject to the exclusion at the Deer Park, TX facility. This action documents the change by updating appendix IX to incorporate a change in name.

The changes to appendix IX to part 261 are effective June 7, 2024. The Hazardous and Solid Waste Amendments of 1984 amended section 3010 of the Resource Conservation and Recovery Act (RCRA) to allow rules to become effective in less than six months when the regulated community does not need the six-month period to come into compliance. As described above, the facility has certified that it is prepared to comply with the requirements of the exclusion. Therefore, a six-month delay in the effective date is not necessary in this case. This provides the basis for making this amendment effective immediately upon publication under the Administrative Procedures Act pursuant to 5 United States Code (U.S.C.) 553(d). The EPA has determined that having a proposed rulemaking and public comment on this change is unnecessary, as it involves only a change in company ownership, with all of the same delisting requirements remaining in effect.

List of Subjects in 40 CFR Part 261

Environmental protection, Hazardous waste, Recycling, Reporting and recordkeeping requirements.

Dated: May 29, 2024.
Melissa Smith,
Acting Director, Land, Chemicals and Redevelopment Division, Region 6.

For the reasons set out in the preamble, 40 CFR part 261 is amended as follows:

PART 261—IDENTIFICATION AND LISTING OF HAZARDOUS WASTE

1. The authority citation for part 261 continues to read as follows:

Authority: 42 U.S.C. 6905, 6912(a), 6921, 6922, 6924(y) and 6938.

2. Amend table 1 of Appendix IX to part 261 by removing the second entry for “Shell Oil Company” “Deer Park, TX” and adding an entry for “Deer Park Refining Limited Partnership (DPRLP)” in alphabetical order by facility to read as follows:

Appendix IX to Part 261—Waste Excluded Under §§ 260.20 and 260.22

Table 1—Wastes Excluded From Non-Specific Sources
* * * * * * *
Facility | Address | Waste description
* * * * * * *
Deer Park Refining Limited Partnership (DPRLP) | Deer Park, TX | Multi-source landfill leachate (EPA Hazardous Waste No. F039) generated at a maximum annual rate of 3.36 million gallons (16,619 cu. yards) per calendar year after August 23, 2005 and disposed in accordance with the TPDES permit.
|  | The delisting levels set do not relieve DPRLP of its duty to comply with the limits set in its TPDES permit. For the exclusion to be valid, DPRLP must implement a verification testing program that meets the following paragraphs:
|  | (1) Delisting Levels: All total concentrations for those constituents must not exceed the following levels (mg/l). The petitioner must analyze the aqueous waste on a total basis to measure constituents in the multi-source landfill leachate.
|  | Multi-source landfill leachate (i) Inorganic Constituents Antimony-0.0204; Arsenic-0.385; Barium-2.92; Copper-418.00; Chromium-5.0; Cobalt-2.25; Nickel-1.13; Selenium-0.0863; Thallium-0.005; Vanadium-0.838
|  | (ii) Organic Constituents Acetone-1.46; Acetophenone-1.58; Benzene-0.0222; p-Cresol-0.0788; Bis(2-ethylhexyl)phthlate-15800.00; Dichloroethane, 1,2-0.0803; Ethylbenzene-4.51; Fluorene-1.87; Napthalene-1.05; Phenol-9.46; Phenanthrene-1.36; Pyridine-0.0146; 2,3,7,8-TCDD equivalents as TEQ-0.0000926; Toluene-4.43; Trichloropropane-0.000574; Xylenes (total)-97.60
|  | (2) Waste Management:
|  | (A) DPRLP must manage as hazardous all multi-source landfill leachate generated, until it has completed initial verification testing described in paragraph (3)(A) and (B), as appropriate, and valid analyses show that paragraph (1) is satisfied.
|  | (B) Levels of constituents measured in the samples of the multi-source landfill leachate that do not exceed the levels set forth in paragraph (1) are non-hazardous. DPRLP can manage and dispose of the non-hazardous multi-source landfill leachate according to all applicable solid waste regulations.
|  | (C) If constituent levels in a sample exceed any of the delisting levels set in paragraph (1), DPRLP can collect one additional sample and perform expedited analyses to verify if the constituent exceeds the delisting level. If this sample confirms the exceedance, DPRLP must, from that point forward, treat the waste as hazardous until it is demonstrated that the waste again meets the levels in paragraph (1).
|  | (D) If the facility has not treated the waste, DPRLP must manage and dispose of the waste generated under Subtitle C of RCRA from the time that it becomes aware of any exceedance
|  | (E) Upon completion of the Verification Testing described in paragraph 3(A) and (B) as appropriate and the transmittal of the results to EPA, and if the testing results meet the requirements of paragraph (1), DPRLP may proceed to manage its multi-source landfill leachate as non-hazardous waste. If Subsequent Verification Testing indicates an exceedance of the delisting levels in paragraph (1), DPRLP must manage the multi-source landfill leachate as a hazardous waste until two consecutive quarterly testing samples show levels below the delisting levels in Table I.
|  | (3) Verification Testing Requirements: DPRLP must perform sample collection and analyses, including quality control procedures, using appropriate methods. As applicable to the method-defined parameters of concern, analyses requiring the use of SW-846 methods incorporated by reference in 40 CFR 260.11 must be used without substitution. As applicable, the SW-846 methods might include Methods 0010, 0011, 0020, 0023A, 0030, 0031, 0040, 0050, 0051, 0060, 0061, 1010A, 1020B, 1110A, 1310B, 1311, 1312, 1320, 1330A, 9010C, 9012B, 9040C, 9045D, 9060A, 9070A (uses EPA Method 1664, Rev. A), 9071B, and 9095B. Methods used must meet Performance Based Measurement System Criteria in which the Data Quality Objectives demonstrate that representative samples of the DPRLP multi-source landfill leachate are collected and meet the delisting levels in paragraph (1).
|  | (A) Initial Verification Testing: After EPA grants the final exclusion, DPRLP must do the following:
|  | (i) Within 60 days of this exclusions becoming final, collect four samples, before disposal, of the multi-source landfill leachate.
|  | (ii) The samples are to be analyzed and compared against the delisting levels in paragraph (1).
|  | (iii) Within sixty (60) days after this exclusion becomes final, DPRLP will report initial verification analytical test data for the multi-source landfill leachate, including analytical quality control information for the first thirty (30) days of operation after this exclusion becomes final. If levels of constituents measured in the samples of the multi-source landfill leachate that do not exceed the levels set forth in paragraph (1) are also non-hazardous in two consecutive quarters after the first thirty (30) days of operation after this exclusion become effective, DPRLP can manage and dispose of the multi-source landfill leachate according to all applicable solid waste regulations.
|  | (B) Subsequent Verification Testing: Following written notification by EPA, DPRLP may substitute the testing conditions in (3)(B) for (3)(A). DPRLP must continue to monitor operating conditions, and analyze one representative sample of the multi-source landfill leachate for each quarter of operation during the first year of waste generation. The sample must represent the waste generated during the quarter. After the first year of analytical sampling verification sampling can be performed on a single annual sample of the multi-source landfill leachate. The results are to be compared to the delisting levels in paragraph (1).
|  | (C) Termination of Testing:
|  | (i) After the first year of quarterly testing, if the delisting levels in paragraph (1) are being met, DPRLP may then request that EPA not require quarterly testing. After EPA notifies DPRLP in writing, the company may end quarterly testing.
|  | (ii) Following cancellation of the quarterly testing, DPRLP must continue to test a representative sample for all constituents listed in paragraph (1) annually.
|  | (4) Changes in Operating Conditions: If DPRLP significantly changes the process described in its petition or starts any processes that generate(s) the waste that may or could significantly affect the composition or type of waste generated as established under paragraph (1) (by illustration, but not limitation, changes in equipment or operating conditions of the treatment process), it must notify EPA in writing; it may no longer handle the wastes generated from the new process as nonhazardous until the wastes meet the delisting levels set in paragraph (1) and it has received written approval to do so from EPA.
|  | (5) Data Submittals: DPRLP must submit the information described below. If DPRLP fails to submit the required data within the specified time or maintain the required records on-site for the specified time, EPA, at its discretion, will consider this sufficient basis to reopen the exclusion as described in paragraph 6. DPRLP must:
|  | (A) Submit the data obtained through paragraph 3 to the Section Supervisor, RCRA Corrective Action, UST, Solid Waste and Permit Branch, EPA Region 6, 1201 Elm Street, Suite 500, Dallas, Texas 75270, Mail Code, (6LCR-RC) within the time specified.
|  | (B) Compile records of operating conditions and analytical data from paragraph (3), summarized, and maintained on-site for a minimum of five years.
|  | (C) Furnish these records and data when EPA or the state of Texas request them for inspection.
|  | (D) Send along with all data a signed copy of the following certification statement, to attest to the truth and accuracy of the data submitted:
|  | Under civil and criminal penalty of law for the making or submission of false or fraudulent statements or representations (pursuant to the applicable provisions of the Federal Code, which include, but may not be limited to, 18 U.S.C. 1001 and 42 U.S.C. 6928), I certify that the information contained in or accompanying this document is true, accurate and complete.
|  | As to the (those) identified section(s) of this document for which I cannot personally verify its (their) truth and accuracy, I certify as the company official having supervisory responsibility for the persons who, acting under my direct instructions, made the verification that this information is true, accurate and complete.
|  | If any of this information is determined by EPA in its sole discretion to be false, inaccurate or incomplete, and upon conveyance of this fact to the company, I recognize and agree that this exclusion of waste will be void as if it never had effect or to the extent directed by EPA and that the company will be liable for any actions taken in contravention of the company's RCRA and CERCLA obligations premised upon the company's reliance on the void exclusion.
|  | (6) Reopener:
|  | (A) If, anytime after disposal of the delisted waste, DPRLP possesses or is otherwise made aware of any environmental data (including but not limited to leachate data or groundwater monitoring data) or any other data relevant to the delisted waste indicating that any constituent identified for the delisting verification testing is at a level higher than the delisting level allowed by the Division Director in granting the petition, then the facility must report the data, in writing, to the Division Director within 10 days of first possessing or being made aware of that data.
|  | (B) If the annual testing of the waste does not meet the delisting requirements in paragraph 1, DPRLP must report the data, in writing, to the Division Director within 10 days of first possessing or being made aware of that data.
|  | (C) If DPRLP fails to submit the information described in paragraphs (5), (6)(A) or (6)(B) or if any other information is received from any source, the Division Director will make a preliminary determination as to whether the reported information requires EPA action to protect human health and/or the environment. Further action may include suspending, or revoking the exclusion, or other appropriate response necessary to protect human health and the environment.
|  | (D) If the Division Director determines that the reported information does require action, he will notify the facility in writing of the actions the Division Director believes are necessary to protect human health and the environment. The notice shall include a statement of the proposed action and a statement providing the facility with an opportunity to present information as to why the proposed action by EPA is not necessary. The facility shall have 10 days from the date of the Division Director's notice to present such information.
|  | (E) Following the receipt of information from the facility described in paragraph (6)(D) or if no information is presented under paragraph (6)(D), the Division Director will issue a final written determination describing the actions that are necessary to protect human health and/or the environment. Any required action described in the Division Director's determination shall become effective immediately, unless the Division Director provides otherwise.
|  | (7) Notification Requirements: DPRLP must do the following before transporting the delisted waste. Failure to provide this notification will result in a violation of the delisting petition and a possible revocation of the decision.
|  | (A) Provide a one-time written notification to any state regulatory agency to which or through which it will transport the delisted waste described above for disposal, 60 days before beginning such activities.
|  | (B) Update the one-time written notification if it ships the delisted waste into a different disposal facility.
|  | (C) Failure to provide this notification will result in a violation of the delisting exclusion and a possible revocation of the decision.
* * * * * * *

* * * * *

[FR Doc. 2024-12496 Filed 6-6-24; 8:45 am]

BILLING CODE 6560-50-P